DEPARTMENT OF VETERANS AFFAIRS

Advisory Committee on Tribal and Indian Affairs, Notice of Meeting

The Department of Veterans Affairs (VA) gives notice under the Federal Advisory Committee Act, 5 U.S.C. App. 2., that the Advisory Committee on Tribal and Indian Affairs will meet on August 15, 16 and 17, 2022. The meeting session will begin and end as follows:

Date | Time
August 15, 2022 | 8:30 a.m.-5:00 p.m.—Mountain Standard Time (MST).
August 16, 2022 | 8:30 a.m.-5:00 p.m. MST.
August 17, 2022 | 8:30 a.m.-5:00 p.m. MST.

Sessions are open to the public (virtually), except during the time the Advisory Committee is conducting tours of VA facilities, participating in off-site events, and site visits. Tours of VA facilities are closed, to protect Veterans' privacy and personal information, in accordance with 5 U.S.C 552b(c)(6).

The purpose of the Committee is to advise the Secretary on all matters relating to Indian Tribes, tribal organizations, Native Hawaiian organizations, and Native American Veterans. This includes advising the Secretary on the administration of healthcare services and benefits to American Indians and Alaska Native Veterans; thereby assessing those needs and whether VA is meeting them. The Advisory Committee on Tribal and Indian Affairs is a newly established FACA Committee. The Committee provides advice and guidance to the Secretary of Veterans Affairs on all matters relating to Indian tribes, tribal organizations, Native Hawaiian organizations, and Native American Veterans.

On August 15, 2022, from 8:30 a.m. to 11:30 a.m. MST, the Committee will meet in open session with key staff from the Albuquerque Veterans Benefits Administration (VBA), held at the Albuquerque VBA Regional Office, 500 Gold Ave. SW, Albuquerque, NM 87102. The agenda will include opening remarks from the Committee Chair, Executive Sponsor, and other VA officials. There will be updates from the Benefits & NCA Subcommittee for discussion. From 1:30 p.m. to 5:00 p.m. MST, the Committee will convene with closed tour of the Santa Fe National Cemetery and New Mexico State Department of Veterans Affairs, and Santa Fe Indian Hospital.

On August 16, 2022, from 8:30 a.m. to 11:30 a.m. MST, the Committee will convene at the Albuquerque VBA Regional Office, and receive updates from the Administrative Subcommittee for discussion. From 11:30 a.m. to 12:00 p.m. there will be Public Comment from those public members who have provided a written summary. From 1:30 p.m. to 5:00 p.m. MST, the Committee will convene with closed tour of the Albuquerque VBA site visits.

On August 17, 2022, from 8:30 a.m. to 11:30 a.m. MST, the Committee the Committee will convene at the Albuquerque VBA Regional Office and receive updates from the Health Subcommittee for discussion. The committee will hold open discussion on topics relevant to the Committee and address follow-up and action items including dates for next meeting. From 1:30 p.m. to 5:00 p.m. MST, the Committee will convene with closed tour of the VA Medical Center, Indian Health Service Albuquerque Indian Hospital and the First Nations Community HealthSource.

The meetings are open to the public and will be recorded. Members of the public can attend the meeting by joining the WebEx meeting at the link below. The link will be active from 8:30 a.m. to 11:30 a.m. (MST) daily, August 15-17, 2022.

Meeting Link: https://veteransaffairs.webex.com/veteransaffairs/onstage/g.php?MTID=e2f851db6165e47193fd753b4c16c0eb5.

Individuals who speak are invited to submit a 1-2 page summary of their comments no later than August 5, 2022, for inclusion in the official meeting record. Members of the public may also submit written statements for the Committee's review to Mr. David Clay Ward, at david.ward@va.gov. Any member of the public seeking additional information should contact Mr. David Clay Ward at 202-461-7445.

Dated: July 7, 2022.
Jelessa M. Burney,
Federal Advisory Committee Management Officer.

[FR Doc. 2022-14854 Filed 7-12-22; 8:45 am]

BILLING CODE P